DEPARTMENT OF COMMERCE

International Trade Administration

[A-428-821]

Notice of Court Decision and Suspension of Liquidation: Large Newspaper Printing Presses and Components Thereof, Whether Assembled or Unassembled, From Germany

AGENCY: Import Administration, International Trade Administration, Department of Commerce.

ACTION: Notice.

SUMMARY: On March 8, 2000, in Koenig & Bauer-Albert AG, et al., v. United States, Consol. Court No. 96-10-02298, Slip Op. 00-25, a lawsuit challenging the Department of Commerce's final affirmative antidumping duty determination of large newspaper printing presses and components thereof, whether assembled or unassembled, from Germany, the Court of International Trade affirmed the Department of Commerce's remand determination and entered a judgement order. In its remand determination, the Department addressed issues of collapsing and cost-averaging relevant to producer/exporter MAN Roland Druckmaschinen AG and its wholly-owned subsidiary MAN Plamag Druckmaschinen AG. As a result, the final antidumping duty rate for MAN Roland Druckmaschinen AG and MAN Plamag Druckmaschinen AG has increased from 30.72 percent to 39.53 percent ad valorem. This decision was not in harmony with the Department's original final determination.

Consistent with the decision of the Court of Appeals for the Federal Circuit in Timken Co. v. United States, 893 F.2d 337 (Fed. Cir. 1990), the Department of Commerce will direct the Customs Service to change the cash deposit rate being used in connection with the suspension of liquidation of the subject merchandise and liquidate entries of the subject merchandise during the period March 1, 1996 through August 31, 1997, at the amended rate, as appropriate, once there is a “final and conclusive” decision in this case.

EFFECTIVE DATE: April 7, 2000.

FOR FURTHER INFORMATION CONTACT: David Goldberger at (202) 482-4136 or Irene Darzenta Tzafolias at (202) 482-0922, Office of Antidumping/Countervailing Duty Enforcement, Import Administration, International Trade Administration, U.S. Department of Commerce, 14th Street and Constitution Avenue, NW, Washington, DC 20230.

SUPPLEMENTARY INFORMATION:

Background

On July 23, 1996, the Department of Commerce (the Department) published notice of its final determination of less-than-fair-value (LTFV) investigation of large newspaper printing presses and components thereof, whether assembled or unassembled (LNPP), from Germany. See Notice of Final Determination of Sales at Less Than Fair Value: Large Newspaper Printing Presses and Components Thereof, Whether Assembled or Unassembled, from Germany, 61 FR 38166 (July 23, 1996) (LNPP Germany Final Determination). In the final determination of the LTFV investigation, the Department established a final dumping margin of 30.80 percent ad valorem for MAN Roland Druckmaschinen AG (MAN Roland) and All Others (except Koenig Bauer-Albert AG (KBA) for which a 46.40 percent margin was established based on adverse facts available). On September 4, 1996, the Department published an antidumping duty order correcting ministerial errors made in the final determination and instructing the Customs Service to collect cash deposits at the rate of 30.72 percent ad valorem for MAN Roland and All Others (except KBA as indicated above), on entries of the subject merchandise entered or withdrawn from warehouse on or after that date. See Notice of Antidumping Duty Order and Amended Final Determination of Sales at Less Than Fair Value: Large Newspaper Printing Presses and Components Thereof, Whether Assembled or Unassembled, from Germany, 61 FR 46623 (September 4, 1996).

Following publication of the Department's antidumping duty order, the respondent MAN Roland and the petitioner Goss Graphic System, Inc., filed a lawsuit with the Court of International Trade (CIT) challenging various aspects of the Department's final determination of the LTFV investigation. In its first decision in this case on June 23, 1998, Koenig & Bauer-Albert AG, et al., v. United States, 15 F. Supp. 2d 834, 849-850, 854-855 (CIT 1998), Slip Op. 98-83 at 28-30, 40-43, the CIT issued an order remanding two issues to the Department. In its remand instructions, the Court ordered the Department to reconsider its decision not to combine certain production costs for MAN Roland and its affiliate MAN Plamag Druckmaschinen AG (MAN Plamag), and granted the Department's request to recalculate MAN Roland's selling, general and administrative (SG&A) expenses using an appropriate cost allocation ratio. In its final remand determination on September 17, 1998, the Department declined to compute a single, weighted-average cost for MAN Roland and Man Plamag because the companies failed to satisfy the fundamental condition for averaging costs—that the products manufactured at their facilities be sufficiently similar in physical characteristics, such that they could be considered identical for product comparison purposes. However, the Department recalculated MAN Roland's SG&A expenses using an appropriate allocation ratio. See September 17, 1998, Final Results of Redetermination Pursuant to Court Remand (Redetermination 1) at 9-10, 13-14. As a result of our recalculations pursuant to Court remand, the antidumping margin for MAN Roland changed from 30.72 to 39.60 percent.

In a later decision on March 16, 1999, Koenig & Bauer-Albert AG, et al., v. United States, 44 F. Supp. 2d 280, 287-288 (CIT 1999), Slip Op. 99-25 at 16-18, the CIT affirmed the Department's recalculation of MAN Roland's SG&A expenses, but did not affirm the Department's final remand results pertaining to the issue of combining certain production costs of MAN Roland and its affiliate. The CIT held that the Department did not address the threshold question of whether MAN Roland and MAN Plamag should be collapsed in order to properly determine whether their production costs should be averaged, and remanded the issue to the Department again for reconsideration and explanation consistent with its opinion. Upon remand, on August 10, 1999, the Department found that MAN Roland and MAN Plamag should have been collapsed as a single entity in performing its antidumping analysis in accordance with 19 CFR 351.401(f). Moreover, the Department determined that treating these affiliated producers as a single entity necessitated that the inputs transferred between them be valued at the cost of producing the input, and adjusted its CV calculations accordingly. Furthermore, in light of the identical merchandise requirement for production cost averaging purposes, the Department maintained its previous remand determination not to weight-average the production costs of the two affiliated companies. In addition, because MAN Plamag made no sales of subject merchandise to the United States during the period of investigation, the Department's decision to collapse MAN Roland and MAN Plamag did not require any changes to the sales side of the Department's original final margin analysis. However, in contrast to its original final determination, the Department applied the same margin, as amended based on the above-described cost adjustments, to both MAN Roland and MAN Plamag. See August 10, 1998, Final Results of Redetermination Pursuant to Court Remand (Redetermination 2) at 5-8. As a result of the adjustments made in Redetermination 2, the revised antidumping margin for both MAN Roland and MAN Plamag changed from 39.60 percent (margin calculated based on Redetermination 1) to 39.53 percent.

In sum, as a result of the two remands in this case, the final dumping rate for MAN Roland and its affiliate MAN Plamag has increased from 30.72 percent (the original final LTFV margin for MAN Roland) to 39.53 percent ad valorem. The rate for All Others changes accordingly.

Suspension of Liquidation

In its decision in Timken Co. v. United States, 893 F.2d 337 (Fed. Cir. 1990) (Timken), the Court of Appeals for the Federal Circuit (CAFC) held that the Department must publish notice of a decision of the CIT or the CAFC which is not in harmony with the Department's determination. Publication of this notice fulfills this obligation. The CAFC also held that the Department must suspend liquidation of the subject merchandise until there is a “final and conclusive” decision on the case. Therefore, pursuant to Timken, the Department must suspend liquidation of the subject merchandise pending the expiration of the period to appeal the CIT's March 8, 2000 ruling, or if that ruling is appealed, pending a final decision by the CAFC. However, because entries of the subject merchandise already are being suspended pursuant to the antidumping duty order in effect, the Department need not order the Customs Service to suspend liquidation. Further, consistent with Timken, the Department will order the Customs Service to change the relevant cash deposit rates in the event that the CIT's ruling is not appealed or the CAFC issues a final decision affirming the CIT's ruling.

Robert S. LaRussa,
Assistant Secretary for Import Administration.

[FR Doc. 00-8695 Filed 4-6-00; 8:45 am]

BILLING CODE 3510-DS-P